LEGAL SERVICES CORPORATION

Request for Comments—LSC Budget Request for FY 2011

AGENCY: Legal Services Corporation.

ACTION: Request for Comments—LSC Budget Request for FY 2011.

SUMMARY: The Legal Services Corporation is beginning the process of developing its FY 2011 budget request to Congress and is soliciting suggestions as to what the request should be.

DATES: Written comments must be received on or before September 4, 2009.

ADDRESSES: Written comments may be submitted by mail, fax or e-mail to Charles Jeffress, Chief Administrative Officer, Legal Services Corporation, 3333 K St., NW., Washington, DC 20007; 202-295-1630 (phone); 202-337-6386 (fax); cjeffress@lsc.gov.

FOR FURTHER INFORMATION CONTACT: Charles Jeffress, Chief Administrative Officer, Legal Services Corporation, 3333 K St., NW., Washington, DC 20007; 202-295-1630 (phone); 202-337-6386 (fax); cjeffress@lsc.gov.

SUPPLEMENTARY INFORMATION: The Legal Services Corporation's (LSC) mission is to promote equal access to justice in our Nation and to provide for high-quality civil legal assistance to low income persons. LSC submits an annual budget request directly to Congress and receives an annual direct appropriation to carry out its mission. For the current fiscal year (FY 2009), LSC received an appropriation of $390,000,000 of which $365,800,000 was for basic field programs and required independent audits; $4,200,000 was for the Office of Inspector General; $16,000,000 was for management and grants oversight; $3,000,00 was for technology initiative grants; and $1,000,000 was for loan repayment assistance. Consolidated Appropriations Act, 2009, Public Law 111-8, Div. B, Title IV, 123 Stat. 524 (2009). (The FY 2010 budget request has already been submitted to Congress and LSC is awaiting Congressional action.)

As part of its annual budget and appropriation process, LSC notifies the Office of Management and Budget (OMB) in September as to what the LSC budget request to Congress will be for the next fiscal year. Accordingly, LSC is currently in the process of formulating its FY 2011 budget request. The Finance Committee of the LSC Board of Directors will meet on September 21, 2009 to develop a recommendation to make to the full Board.

LSC invites public comment on what its FY 2011 budget request should be. Interested parties may submit comments to LSC by September 4, 2009. More information about LSC can be found at LSC's Web site: http://www.lsc.gov.

Dated: August 18, 2009.
Victor M. Fortuno,
Vice President & General Counsel.

[FR Doc. E9-20136 Filed 8-20-09; 8:45 am]

BILLING CODE 7050-01-P